NUCLEAR REGULATORY COMMISSION

[NRC-2012-0054; Docket No. 70-0036]

Westinghouse Electric Company, LLC; Hematite Decommissioning Project; Festus, Missouri

AGENCY: Nuclear Regulatory Commission.

ACTION: Environmental assessment and finding of no significant impact; issuance.

SUMMARY: The U.S. Nuclear Regulatory Commission (NRC) is considering issuance of a license amendment to special nuclear material (SNM) license number SNM-33 issued to Westinghouse Electric Company, LLC for the former Hematite fuel cycle facility in Festus, Missouri, authorizing alternative disposal of buried debris and contaminated soil, concrete and asphalt, filter media, ion exchange resin and piping at the US Ecology Idaho, Inc. (USEI) disposal facility located near Grand View, Idaho. In addition, the NRC is considering the issuance of an exemption to USEI so that it may accept the waste for disposal. This exemption would allow USEI to accept the NRC regulated material under its Idaho Department of Environmental Quality issued license. The NRC staff is issuing an Environmental Assessment (EA) and Finding of No Significant Impact (FONSI) associated with the proposed action.

DATES: The EA and FONSI referenced in this document are available on April 17, 2015.

ADDRESSES: Please refer to Docket ID NRC-2012-0054 when contacting the NRC about the availability of information regarding this document. You may access publicly-available information related to this action by the following methods:

• Federal Rulemaking Web site: Go to http://www.regulations.gov and search for Docket ID NRC-2012-0054. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: John J. Hayes, Office of Nuclear Material Safety and Safeguards, U.S. Nuclear Regulatory Commission, Washington, DC 20555-0001; telephone: 301-415-5928; email: John.Hayes@nrc.gov.

SUPPLEMENTARY INFORMATION:

I. Introduction

The NRC is considering the issuance of an amendment to license SNM-33, issued to Westinghouse Electric Company, LLC (WEC), for the operation of the Hematite facility, located in Festus, Missouri for the disposal of radioactive waste at the USEI facility located near Grand View, Idaho. As part of this action, the NRC is also considering the approval of an exemption that will allow USEI to accept the waste. As required by section 51.21 of title 10 of the Code of Federal Regulations (10 CFR), the NRC has prepared an environmental assessment (EA). Based upon this EA, the NRC has determined not to prepare an environmental impact statement for the proposed license amendment and is issuing a finding of no significant impact (FONSI).

By letter dated July 11, 2014 (ADAMS Accession No. ML14193A008), WEC requested NRC authorization under 10 CFR 20.2002 for alternate disposal of an additional 87,100 m³ (cubic meters) of radioactive waste from the WEC's Hematite facility, consisting of buried debris and contaminated soil, concrete and asphalt, filter media, ion exchange resin and piping containing NRC-licensed source, byproduct, and special nuclear material. The amendment requests authorization for WEC to transfer this waste from the Hematite facility to the USEI facility located near Grand View, Idaho, which is a Resource Conservation and Recovery Act (RCRA) Subtitle C disposal facility. On August 12, 2014 USEI also submitted a request for an exemption from 10 CFR 30.3 and 10 CFR 70.3 (ADAMS Accession No. ML14272A425) to enable it to receive the WEC radioactive waste from the Hematite site. The USEI facility is regulated by the Idaho Department of Environmental Quality (IDEQ) and is not an NRC-licensed facility.

An NRC administrative review, documented in a letter to WEC dated August 29, 2014 (ADAMS Accession No. ML14188B647), found the application acceptable to begin a technical review. On September 25, 2014, Westinghouse submitted a revision (ADAMS Accession No. ML14293A614) to their July 11, 2014, request. On October 29, 2014, the NRC transmitted to WEC a Request for Additional Information (ADAMS Accession Nos. ML14294A141 and ML14294A146). On December 19, 2014, WEC provided a response to NRC's request (ADAMS Accession No. ML15009A166). Additional information was provided by WEC in submittals dated February 18, 2015, and March 25, 2015 (ADAMS Accession Nos. ML15063A033 and ML15084A071).

On December 3, 2014, the NRC published in the Federal Register (79 FR 71795), a Notice of Opportunity for Hearing on the July 11, 2014, WEC license amendment request. No request for a hearing was received within the request period. The NRC relied upon the information provided in the July 11, 2014, license amendment request, the September 25, 2014, December 19, 2014, February 18, 2015, and March 25, 2015, submittals, supporting documentation and other sources as noted in the EA references section, in preparing the EA. The EA is electronically available to the public through ADAMS (ADAMS Accession No. ML15029A064). This notice provides an EA summary and the FONSI.

ll. Environmental Assessment Summary

Description of the Proposed Action

The proposed action would authorize WEC to transfer an additional 87,100 m³ of radioactive waste consisting of buried debris and contaminated soil, concrete and asphalt, filter media, ion exchange resin and piping containing NRC-licensed source, byproduct, and special nuclear material from the Hematite facility to the USEI disposal facility located near Grand View, Idaho. The proposed action is in accordance with the licensee's application dated July 11, 2014, as supplemented by letters dated September 25, 2014, December 19, 2014, February 18, 2015, and March 25, 2015. In order to implement the proposed action, the NRC would need to amend WEC's license, SNM-33, to expressly allow for the disposal of the radioactive waste and would need to grant exemptions to USEI from NRC regulations 10 CFR 30.3 and 10 CFR 70.3.¹

¹ NRC regulation 10 CFR 30.3 requires a NRC issued license for the manufacture, production, transfer, receipt, acquisition, ownership, possession or use of byproduct material. Similarly, 10 CFR 70.3 requires a NRC issued license for the ownership, acquisition, delivery, receipt, possession, use or transfer of special nuclear material. Approvals of the exemption requests are part of the proposed action as USEI is not a NRC licensed facility and Idaho is not an Agreement State under Section 274 of the Atomic Energy Act. If the proposed action is approved, the NRC would issue exemptions pursuant to its exemption grant authority at 10 CFR 30.11(a) and 10 CFR 70.17(a), respectively.

Need for the Proposed Action

The WEC Hematite Decommissioning Project (HDP) is a decommissioning ² and environmental restoration project that will generate low-activity, low-level radioactive waste (LLRW) in the form of buried debris and contaminated soil, concrete and asphalt, filter media, ion exchange resin and piping containing low concentrations of source, byproduct and special nuclear material. There is also the potential that this LLRW will contain hazardous constituents, such as metals and volatile organics, that exceed the levels identified in 40 CFR part 261. If the LLRW contains such hazardous constituents, and if the levels of such constituents exceed the 40 CFR part 261 limits, then the LLRW is considered hazardous waste under RCRA and will require treatment at a RCRA facility, such as USEI, prior to disposal. The need for the proposed action is the safe and permanent disposal of HDP's LLRW.

² In NRC regulations, the term “decommission” means to remove a facility or site safely from service and reduce residual radioactivity to a level that permits: Release of the property for unrestricted use and termination of the license; or release of the property under restricted conditions and termination of the license. See 10 CFR 70.4.

Environmental Impacts of the Proposed Action

In accordance with 10 CFR 20.2002, WEC proposes to dispose of this LLRW at the USEI hazardous waste disposal facility near Grand View, Idaho. The facility occupies Section 19 (2.59 square kilometers or 640 acres) of Township 4 South and Range 2 East in Owyhee County, Idaho. This disposal is in addition to the approximately 23,000 m³ (30,000 yd³) of LLRW which was approved for alternate disposal by Hematite License Amendment 58, the 23,000 m³ (30,000 yd³) of LLRW that was approved for Hematite License Amendment 60, and the 22,000 m³ (29,000 yd³) of LLRW that was approved for Hematite License Amendment 63. As such, the cumulative impacts on the USEI facility and surrounding environment resulting from the receipt of the waste material described in the aforementioned license amendments were considered.

In 2002, WEC and the Missouri Department of Natural Resources (MDNR) entered into a Letter Agreement, which, among other things, provided for MDNR oversight of certain studies and response actions in accordance with the National Oil and Hazardous Substances Pollution Contingency Plan under the requirements of the Comprehensive Environmental Response, Compensation, and Liability Act (CERCLA), 42 U.S.C. 9601 et seq. (Westinghouse MDNR Review Draft Remedial Design Work Plan, 2002).

On July 3, 2008, Missouri and WEC entered into a Consent Decree, and the Letter Agreement was terminated. The Consent Decree provides for MDNR oversight of those portions of the investigation and selection of the remedy for Operable Units at the site that are not preempted by the Atomic Energy Act of 1954, as amended. The Selected Remedy for Operable Unit 1 at the HDP is Alternative 4: Removal, Treatment of Volatile Organic Compound Waste, and Off-site Disposal of Low-Level Radioactive Waste and Non-Hazardous Treatment Residues.

Environmental Impacts of the Alternatives to the Proposed Action

As an alternative to the proposed action, the staff considered denial of the proposed action (i.e., the “no-action” alternative). The no-action alternative involves discontinuing ongoing decommissioning activities at the HDP and leaving contaminated soil and other radioactive waste at the HDP site. This action would require an exemption from the requirement in 10 CFR 70.38(d) that decommissioning of facilities specifically licensed for possession and use of special nuclear material be completed and approved by the NRC after licensed activities cease. The no-action alternative would result in leaving approximately 87,100 m³ of total waste volume onsite.

As was previously noted, the radioactive waste, regulated by the NRC, is co-mingled with chemically contaminated waste regulated under CERCLA. The no-action alternative would not be in accordance with the July 2009 CERCLA Record of Decision (http://www.dnr.mo.gov/env/hwp/docs/20090721HRSFINALROD.pdf) for the removal and subsequent treatment of the chemically contaminated waste.

The no-action alternative would not allow WEC to meet the requirements of 10 CFR 20.1402 for unrestricted release. Selection of this alternative would require WEC to continue environmental monitoring/surveillance and to maintain administrative and engineered controls to ensure facility safety and security. The environmental impacts of the no-action alternative would include continued contamination of soil and water, which could further escalate over time if groundwater contamination spreads and material such as Technicium-99 continue to leach into the soil. The continued monitoring required at the site would result in environmental impacts due to the emissions from vehicular traffic associated with workers traversing to and from the site and entities providing services and supplies to the Hematite facility. Additional vehicular traffic could also impact public and occupational health with the potential for vehicle accidents.

Another alternative to the proposed action is to dispose of the LLRW in a facility licensed by an NRC Agreement State for the storage and/or disposal of LLRW. For this EA, the NRC evaluated the EnergySolutions, LLC (EnergySolutions) Clive, Utah, facility as the alternative disposal site for the radioactive and chemically hazardous waste.

The EnergySolutions LLRW disposal facility at Clive, Utah, is located 128 kilometers (80 miles) west of Salt Lake City, Utah, and 70 kilometers (45 miles) east of Wendover, Nevada. The site is arid with an annual precipitation of approximately 20 centimeters (8 inches). The facility is licensed by the State of Utah, to dispose of Class A radioactive waste only (Utah License 2300249) and 11e.(2) byproduct material (UT2300478) and holds a Part B Resource Conservation and Recovery Act (RCRA) solid waste permit (Environmental Protection Agency ID No. UTD982598898).

The selection of this alternative would allow WEC to meet the requirements of 10 CFR 20.1402 for unrestricted release. In addition, this site is environmentally similar to USEI. However, this alternative was not selected by WEC.

Alternative Use of Resources

The proposed action does not impact any resource implications discussed in previous environmental reviews.

Agencies and Persons Consulted

In accordance with its stated policy, the NRC staff consulted with the Missouri Department of Conservation, Idaho Department of Fish and Game, and U.S. Fish and Wildlife Service during the development of this EA. On January 14, 2015, the NRC staff consulted with MDNR and IDEQ regarding the environmental impact of the proposed action and solicited comments on a draft EA and FONSI. No comments were received.

lIl. Finding of No Significant Impact

WEC has requested NRC authorization under 10 CFR 20.2002 for the alternate disposal of an additional 87,100 m³ of radioactive waste consisting of buried debris and contaminated soil, concrete and asphalt, filter media, ion exchange resin and piping containing NRC-licensed source, byproduct, and special nuclear material. In addition, both WEC and USEI have requested that the NRC exempt USEI from the requirements of 10 CFR 30.3 and 10 CFR 70.3. Consistent with 10 CFR 51.21, the NRC conducted the EA for the proposed action described Section II of this document and publicly available in ADAMS (ADAMS Accession No. ML15029A064). The EA is incorporated by reference in this finding. On the basis of the EA, the NRC concludes that the proposed action will not have a significant effect on the quality of the human environment. Accordingly, the NRC has determined not to prepare an environmental impact statement for the proposed action.

Dated at Rockville, Maryland this 8th day of April 2015.
For The Nuclear Regulatory Commission.
Andrew Persinko,
Deputy Director, Division of Decommissioning, Uranium Recovery, and Waste Programs, Office of Nuclear Material Safety and Safeguards.

[FR Doc. 2015-08933 Filed 4-16-15; 8:45 am]

BILLING CODE 7590-01-P